DEPARTMENT OF THE INTERIOR

Bureau of Land Management

[WY-040-1430-EU; WYW-128340]

Notice of Realty Action; Proposed Direct Sale of Public Lands in Sublette County, WY

AGENCY: Bureau of Land Management, Interior.

ACTION: Notice of Realty Action.

SUMMARY: A parcel of public land totaling 29.42 acres in Sublette County, Wyoming, is being considered for direct sale to Magagna Bros., Inc. under the provisions of the Federal Land Policy Management Act of 1976 (FLPMA) and implementing regulations contained in 43 CFR 2711.3-3(5), at no less than appraised fair market value. A direct sale of these public lands would resolve an inadvertent unauthorized use or occupancy of the lands.

DATES: In order to ensure consideration in the environmental analysis of the proposed sale, comments must be received by December 18, 2008.

ADDRESSES: Address all comments concerning this Notice to the Field Manager, Bureau of Land Management (BLM), Rock Springs Field Office, 280 Highway 191 North, Rock Springs, Wyoming 82901.

FOR FURTHER INFORMATION CONTACT: Teri Deakins, Environmental Protection Specialist, at the above address or phone (307) 352-0211.

SUPPLEMENTARY INFORMATION: The following described public land in Sublette County, Wyoming, is being considered for direct sale under the authority of Section 203 of the Federal Land Policy and Management Act of 1976, (90 Stat. 2750, 43 U.S.C. 1713) and implementing regulations contained in 43 CFR 2711.3-3(5).

Sixth Principal Meridian

T. 27 N., R. 103 W.,

Sec. 4: lot 6.

The area described contains 29.42 acres more or less.

The proposed sale is in conformance with and consistent with the objectives, goals and decisions of the BLM Green River Resource Management Plan, dated August 8, 1997, and the land is not required for other Federal purposes. Conveyance of the identified public land will be subject to valid existing rights and encumbrances of record. Minerals will be reserved to the United States in the conveyance.

On November 3, 2008, the above described land will be segregated from appropriation under the public land laws, including the mining laws, except the sale provisions of the FLPMA. Until completion of the sale, BLM will not accept land use applications affecting the identified public land, except applications for the amendment of previously-filed right-of-way applications or existing authorizations to increase the term of the grants in accordance with 43 CFR 2807.15 and 2886.15. The segregative effect will terminate upon issuance of a patent, publication in the Federal Register of a termination of the segregation, or November 3, 2010, unless extended by the BLM State Director in accordance with 43 CFR 2711.1-2(d) prior to the termination date.

Public Comments

For a period until December 18, 2008, interested parties and the general public may submit in writing any comments concerning the land being considered for sale, including notification of any encumbrances or other claims relating to the identified land, to the Field Manager, BLM Rock Springs Field Office, at the above address. In order to ensure consideration in the environmental analysis of the proposed sale, comments must be in writing and postmarked or delivered within 45 days of the initial date of publication of this Notice. Comments received electronically, via e-mail or facsimile, will not be accepted. Comments, including names and street addresses of respondents, will be available for public review at the BLM Rock Springs Field Office during regular business hours, except holidays. Individual respondents may request confidentiality. Before including your address, phone number, e-mail address, or other personal indentifying information in your comment, be advised that your entire comment—including your personal identifying information—may be made publicly available at any time. While you can ask us in your comment to withhold your personal identifying information from public review, we cannot guarantee that we will be able to do so. If you wish to have your name or address withheld from public disclosure under the Freedom of Information Act, you must state this prominently at the beginning of your comments. Any determination by the BLM to release or withhold the names and/or addresses of those who comment will be made on a case-by-case basis. Such requests will be honored to the extent allowed by law. The BLM will make available for public review, in their entirety, all comments submitted by businesses or organizations, including comments by individuals in their capacity as an official or representative of a business or organization. Any adverse comments will be reviewed by the State Director, who may sustain, vacate, or modify this realty action. In the absence of timely filed objections, this realty action will become the final determination of the Department of the Interior.

The land will not be offered for sale prior to December 18, 2008.

Authority: 43 CFR 2711.1-2.

Lance C. Porter,
Field Manager.

[FR Doc. E8-26119 Filed 10-31-08; 8:45 am]

BILLING CODE 4310-22-P